DEPARTMENT OF THE INTERIOR

Fish and Wildlife Service

Draft Environmental Assessment (EA) for “Guidelines for Living With Florida Panthers and the Interagency Florida Panther Response Plan” and Notice of Receipt of an Application for Amendment to an Endangered Species Permit

AGENCY: Fish and Wildlife Service, Interior.

ACTION: Notice of Availability; receipt of application.

SUMMARY: The Florida panther (Puma concolor coryi) is one of the rarest large mammals in the United States. The panther is protected as an endangered species under the Endangered Species Act (Act) and Florida statutes. Due to the panther's potential for extinction, conflicts with humans raise issues that require careful consideration and action such that the intent and ability to conserve the species is unaltered while the safety of the public remains paramount. We announce the availability of an Environmental Assessment (EA) that considers alternatives for managing panther-human conflicts. The alternatives are intended to result in nonsignificant impacts to panthers, humans and the environment.

The public is also invited to comment on an application for amendment to a permit to conduct certain activities with endangered and threatened species. This notice is provided under section 10(c) of the Act.

DATES: Written comments on the EA should be sent to the Service's Field or Regional Office (see ADDRESSES) and should be received on or before July 24, 2006.

Written comments and/or data must be received on the application for amendment to the Endangered Species Permit at the address given below, by July 24, 2006.

ADDRESSES: Layne Hamilton, Refuge Manager, Florida Panther and Ten Thousand Islands National Wildlife Refuges, 3860 Tollgate Blvd., Suite 300, Naples, Florida 34114, or Southeast Regional Office, Fish and Wildlife Service, 1875 Century Boulevard, Suite 420, Atlanta, Georgia 30345 (Attn: Elizabeth Souheaver). Persons wishing to review the Environmental Assessment may obtain a copy on the Internet at http://www.fws.gov/verobeach. They may also obtain a copy by writing the Service's Southeast Regional Office, Atlanta, Georgia (see ADDRESSES.) Please reference the Environmental Assessment associated with an interagency-developed management guidelines in such requests. Documents will also be available for public inspection by appointment during normal business hours at the Regional Office (see ADDRESSES.) If you wish to comment, you may submit comments by any one of several methods. Please reference the Environmental Assessment associated with an interagency-developed management guidelines in such comments. You may mail comments to the Service's Regional Office (see ADDRESSES). You may also comment via electronic mail (e-mail) to pantherresponseplan@fws.gov. Please submit comments over the internet as an ASCII file avoiding the use of special characters and any form of encryption. Please also include your name and return address in your internet message. If you do not receive a confirmation from us that we have received your internet message, contact us directly at either telephone number listed under FOR FURTHER INFORMATION CONTACT. Finally, you may hand deliver comments to either Service office listed under ADDRESSES. Our practice is to make comments, including names and home addresses of respondents, available for public review during regular business hours. Individual respondents may request that we withhold their names and home address from the administrative record. We will honor such requests to the extent allowed by law. If you wish us to withhold your name and/or address, you must state this prominently at the beginning of your comments. We will not, however, consider anonymous comments. We will make all submissions from organizations or businesses, and from individuals identifying themselves as representatives or officials of organizations or businesses, available for public inspection in their entirety.

If you wish to comment on the application for amendment to the permit to conduct certain activities with endangered and threatened species, you may submit comments by any one of the following methods. You may mail comments to the Service's Southeast Regional Office, 1875 Century Boulevard, Suite 200, Atlanta, Georgia or via electronic mail (e-mail) to victoria_davis@fws.gov. Please include your name and return address in your e-mail message. If you do not receive a confirmation from the Service that we have received your e-mail message, contact us directly at the telephone number listed below. Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

FOR FURTHER INFORMATION CONTACT: Ms. Layne Hamilton, Refuge Manager, Florida Panther and Ten Thousand Islands National Wildlife Refuges, (see ADDRESSES), telephone: 239/353-8442 extension 227; or Ms. Elizabeth Souheaver, Area IV Supervisor (see ADDRESSES), telephone: 404/679-7163, facsimile: 404/679-4082. Amendment to the Endangered Species Permit contact: Victoria Davis, Endangered Species Biologist (see ADDRESSES), telephone 404-679-4176; facsimile 404-679-7081.

SUPPLEMENTARY INFORMATION: Florida panthers occur primarily in southern Florida, and most individuals reside south of Lake Okeechobee. Recovery actions over the past 25 years, particularly genetic augmentation initiated in 1995, enabled the population to grow from 30-50 animals to 80-100 animals in 2005. During this same period, the Florida human population has grown 223 percent, from about 5 million to over 16 million people. Because of increases in numbers of people and panthers, urban/suburban areas now interface with panther habitat, increasing the possibility of panther-human interactions. Management guidelines are needed to provide more definitive guidance to respond and manage panther and human interactions and to educate the public about appropriate behavior when living and recreating in panther habitat.

Three alternatives were analyzed. Alternative A (Preferred Action) proposes managing panther-human interactions with an interagency response team and an established plan that prioritizes public safety and evaluates each situation by analyzing panther behavior and human activity. Alternative B does not utilize an interagency team or a response plan, but responds to panther-human interactions on a case-by-case basis without established protocols or guidelines. Alternative C includes a response team and plan that differs from Alternative A by providing rigid protocols based on frequency of panther sightings and proximity to human-occupied structures, without considering panther behavior or influences of human activity on panther behavior. In accordance with mandates established under the National Environmental Policy Act, the Fish and Wildlife Service and the National Park Service are required to consider a full range of reasonable alternatives for addressing and responding to major public issues, management concerns, and resource conservation opportunities associated with issues arising from panther-human interactions.

The Service has made a preliminary determination that the preferred management plan is not a major Federal action significantly affecting the quality of the human environment within the meaning of Section 102(2)(C) of the National Environmental Policy Act. This preliminary information may be revised due to public comments received in response to this notice and is based on information contained in the Environmental Assessment.

The Service will evaluate the comments submitted thereon to determine whether the Environmental Assessment meets the issuance criteria requirements of section 10(a)(1)(B) of the Act (16 U.S.C. 1531 et seq.). By conducting an intra-Service section 7 consultation, the Service will also evaluate whether issuance of the section 10(a)(1)(B) ITP would comply with section 7 of the Act. The results of this consultation, in combination with the above findings, will be used in the final analysis to determine whether or not to issue the ITPs.

Application for Amendment to an Endangered Species Permit

Applicant: Florida Fish and Wildlife Conservation Commission, TE051553-3

The applicant requests authorization to take (capture, harass, remove) the Florida panther (Puma (=Felis) concolor coryi) while implementing the “Guidelines for Living with Florida Panthers and the Interagency Florida Panther Response Plan.” The proposed activities would occur throughout the species' range in Florida.

Public Comments

Authority: This notice is provided pursuant to Section 10 of the Endangered Species Act and National Environmental Policy Act regulations (40 CFR 1506.6).

Dated: May 19, 2006.
Cynthia K. Dohner,
Acting Regional Director, Southeast Region.

[FR Doc. E6-8013 Filed 5-24-06; 8:45 am]

BILLING CODE 4310-55-P